DEPARTMENT OF HEALTH AND HUMAN SERVICES

National Institutes of Health

National Heart, Lung, and Blood Institute; Notice of Meeting

Pursuant to section 10(a) of the Federal Advisory Committee Act, as amended, notice is hereby given of a meeting of the National Asthma Education Prevention Program Coordinating Committee.

The meeting will be open to the public. Individuals who plan to attend and need special assistance, such as sign language interpretation or other reasonable accommodations, should notify the Contact Person listed below in advance of the meeting.

Name of Committee: National Asthma Education Prevention Program Coordinating Committee.

Date: August 16, 2022.

Time: 12:00 p.m. to 4:00 p.m.

Agenda: Programmatic and Scientific Updates

Place: National Institutes of Health, Rockledge II, 6705 Rockledge Drive, Bethesda, MD 20892 (Virtual Meeting).

Virtual Access: https://nih.zoomgov.com/j/1603194596?pwd=ZnhJV3BLcEFOVThvUUdhQnNGOG5xZz09.

Telephone Access: Meeting ID: 160 319 4596. Passcode: 748944. +1 669 254 5252 US (San Jose). +1 646 828 7666 US (New York). +1 551 285 1373 US. +1 669 216 1590 US (San Jose).

Contact Person: Susan Shero, MS, Program Officer, CTRIS, Center for Translational Research and Implementation Science, National Heart, Lung and Blood Institute, National Institutes of Health, 6705 Rockledge Drive, Bethesda, MD 20892, 301-496-1051, susan.shero@nih.gov.

Any interested person may file written comments with the committee by forwarding the statement to the Contact Person listed on this notice. The statement should include the name, address, telephone number and when applicable, the business or professional affiliation of the interested person.

Information is also available on the Institute's/Center's home page: https://www.nhlbi.nih.gov/advisory-and-peer-review-committees/national-asthma-education-and-prevention-program-coordinating, where an agenda and any additional information for the meeting will be posted when available.

Information is also available on the Institute's/Center's home page: https://www.nhlbi.nih.gov/advisory-and-peer-review-committees/national-asthma-education-and-prevention-program-coordinating, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: July 1, 2022.
David W Freeman,
Program Analyst, Office of Federal Advisory Committee Policy.

[FR Doc. 2022-14559 Filed 7-7-22; 8:45 am]

BILLING CODE 4140-01-P